DEPARTMENT OF AGRICULTURE

National Agricultural Statistics Service

Notice of Intent To Request Revision and Extension of a Currently Approved Information Collection

AGENCY: National Agricultural Statistics Service, USDA.

ACTION: Notice and request for comments.

SUMMARY: In accordance with the Paperwork Reduction Act of 1995 this notice announces the intention of the National Agricultural Statistics Service (NASS) to request revision and extension of a currently approved information collection, the custom works surveys. This clearance allows NASS to conduct custom works surveys in a timely manner for the cooperating institutions providing funding for the surveys. There will be no revision to annual burden hours for the surveys.

DATES: Comments on this notice must be received by February 11, 2022 to be assured of consideration.

ADDRESSES: You may submit comments, identified by docket number 0535-0266, by any of the following methods:

• Email: ombofficer@nass.usda.gov. Include docket number above in the subject line of the message.

• E-fax: 855-838-6382.

• Mail: Mail any paper, disk, or CD-ROM submissions to: David Hancock, NASS Clearance Officer, U.S. Department of Agriculture, Room 5336, South Building, 1400 Independence Avenue SW, Washington, DC 20250-2024.

• Hand Delivery/Courier: Hand deliver to: David Hancock, NASS Clearance Officer, U.S. Department of Agriculture, Room 5336, South Building, 1400 Independence Avenue SW, Washington, DC 20250-2024.

FOR FURTHER INFORMATION CONTACT: Kevin L. Barnes, Associate Administrator, National Agricultural Statistics Service, U.S. Department of Agriculture, 202-720-5142. Copies of this information collection and related instructions can be obtained without charge from David Hancock, NASS-OMB Clearance Officer, at 202-690-2388 or at ombofficer@nass.usda.gov.

SUPPLEMENTARY INFORMATION: Title: Custom Works Surveys.

OMB Control Number: 0535-0266.

Type of Request: Intent to Seek Approval to Revise and Extend an Information Collection for a period of three years.

Abstract: The primary objective of the National Agricultural Statistics Service (NASS) is to collect, prepare, and issue state and national estimates of crop and livestock production, prices, and disposition; as well as economic statistics, environmental statistics related to agriculture; and also to conduct the Census of Agriculture.

The Custom Works program will survey farmers who potentially paid for custom services during a specified reference period to collect information on how much they paid for those services. These services include land tillage, application of fertilizers and chemicals, planting, harvesting, hauling, various livestock tasks, and many more tasks. The program will provide farm operators with estimates of the average prices paid for different custom services in their state and/or local area. All questionnaires included in this information collection will be voluntary. This project is conducted as a cooperative effort between NASS and state agricultural departments and/or universities. Funding will be provided by the cooperating institutions under full cost recovery. The time between when funding for an individual survey is secured and the desired start of data collection is expected often to be too short to allow for a separate OMB approval for each survey. With this request, NASS will be able to provide services in a timelier manner.

Authority: These data will be collected under authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995 (Pub. L. 104-113, 44 U.S.C. 3501, et seq.) and Office of Management and Budget regulations at 5 CFR part 1320.

All NASS employees and NASS contractors must also fully comply with all provisions of the Confidential Information Protection and Statistical Efficiency Act (CIPSEA) of 2018, Title III of Public Law 115-435, codified in 44 U.S.C. Ch. 35. CIPSEA supports NASS's pledge of confidentiality to all respondents and facilitates the agency's efforts to reduce burden by supporting statistical activities of collaborative agencies through designation of NASS agents, subject to the limitations and penalties described in CIPSEA.

Estimate of Burden: Public reporting burden for this information collection is based on similar surveys with expected response time of 20 minutes. The estimated sample size will be approximately 42,000. The frequency of data collection for each survey is as needed by the cooperating institution. The estimated number of responses per respondent is 1. Publicity materials and instruction sheets will account for approximately 5 minutes of additional burden per respondent. Respondents who refuse to complete a survey will be allotted 2 minutes of burden per attempt to collect the data.

Respondents: Farmers who potentially paid for custom services during the reference period.

Estimated Number of Respondents: 42,000.

Frequency of Responses: On occasion.

Estimated Total Burden on Respondents: 16,000 hours.

Comments: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, through the use of appropriate automated, electronic, mechanical, technological, or other forms of information technology collection methods.

All responses to this notice will become a matter of public record and be summarized in the request for OMB approval.

Signed at Washington, DC, December 1, 2021.
Kevin L. Barnes,
Associate Administrator.

[FR Doc. 2021-26941 Filed 12-10-21; 8:45 am]

BILLING CODE 3410-20-P